Proclamation 10511 of December 30, 2022

National Mentoring Month, 2023

By the President of the United States of America

A Proclamation

Every January, our Nation celebrates the dedicated mentors whose wisdom, guidance, and positive examples set our children on a sound path and help prepare them to succeed.

The events of the past few years have taken their toll on many of our Nation's young people. The isolation of the COVID-19 pandemic has hampered the social and academic progress of many students. A rising number of adolescents are experiencing mental health challenges, including from bullying and social media harms. That is why, as part of my Unity Agenda I announced in my State of the Union address, my Administration is pairing children with mentors who can help them navigate these complexities, open up doors of opportunity, and give them the additional support they may need to excel in school and in their communities.

Our American Rescue Plan provided $122 billion to help schools reopen safely and invest in tutoring, afterschool activities, summer learning, and enrichment programs, helping students regain ground that was lost in the last two years. The bill delivered a billion dollars to AmeriCorps to expand national service projects to include the recruitment of new mentors, tutors, and student success coaches. Through the Department of Labor, we are connecting young people who have previously dropped out of high school to pre-apprenticeship opportunities that help them prepare for jobs in high-demand industries. And this summer, I was proud to launch the National Partnership for Student Success, a collaboration between the Department of Education, AmeriCorps, and the Johns Hopkins Everyone Graduates Center to add 250,000 tutors and mentors around the country over the next 3 years.

During National Mentoring Month, I encourage Americans to visit americorps.gov/serve and partnershipstudentsuccess.org to learn about these opportunities and consider becoming a mentor or a tutor. I also call on local schonol districts to put the funding offered by my American Rescue Plan toward hiring more mentors and tutors for their students, particularly in subjects like the sciences, technology, engineering, and mathematics. I encourage our Nation's colleges and universities to partner with K-12 schools and community-based organizations to provide new mentorship opportunities, and I urge employers and unions to continue offering pre-apprenticeships and Registered Apprenticeships, which train new workers to participate in the 21st century's biggest industries. As families and friends, teachers and counselors, coaches and co-workers, faith and community leaders, good citizens and neighbors, we can each play a role in helping the next generation of Americans achieve their dreams.

NOW, THEREFORE, I, JOSEPH R. BIDEN JR., President of the United States of America, by virtue of the authority vested in me by the Constitution and the laws of the United States, do hereby proclaim January 2023 as National Mentoring Month. I call upon Americans across the country to observe this month with mentoring, appropriate ceremonies, activities, and programs.

IN WITNESS WHEREOF, I have hereunto set my hand this thirtieth day of December, in the year of our Lord two thousand twenty-two, and of the Independence of the United States of America the two hundred and forty-seventh.

[FR Doc. 2023-00093

Filed 1-4-23; 8:45 am]

Billing code 3395-F3-P